DEPARTMENT OF TRANSPORTATION

Federal Aviation Administration

14 CFR Part 71

[Docket No. FAA-2007-0278; Airspace Docket No. 07-AEA-18]

Establishment of Class E Airspace; Cranberry Township, PA

AGENCY: Federal Aviation Administration (FAA), DOT.

ACTION: Final rule, confirmation of effective date.

SUMMARY: This action confirms the effective date of a direct final rule that establishes Class E Airspace at Cranberry Township, PA, to support a new Area Navigation (RNAV) Global Positioning System (GPS) Special Instrument Approach Procedure (IAP) that has been developed for medical flight operations into the University of Pittsburgh Medical Center (UPMC) Passavant-Cranberry Heliport. Additionally, this action corrects a minor typing error in the publication of the coordinates for the UPMC Passavant-Cranberry Heliport.

DATES: Effective 0901 UTC, June 5, 2008. The Director of the Federal Register approves this incorporation by reference action under title 1, Code of Federal Regulations, part 51, subject to the annual revision of FAA Order 7400.9 and publication of conforming amendments.

FOR FURTHER INFORMATION CONTACT: Melinda Giddens, System Support Group, Eastern Service Center, Federal Aviation Administration, P.O. Box 20636, Atlanta, Georgia 30320; telephone (404) 305-5610.

SUPPLEMENTARY INFORMATION:

Confirmation of Effective Date

The FAA published this direct final rule with a request for comments in the Federal Register on February 14, 2008 (73 FR 8597), to establish Class E airspace at Cranberry Township, PA. The FAA uses the direct final rulemaking procedure for a non-controversial rule where the FAA believes that there will be no adverse public comment. This direct final rule advised the public that no adverse comments were anticipated, and that unless a written adverse comment, or a written notice of intent to submit such an adverse comment, were received within the comment period, the regulation would become effective on June 5, 2008. No adverse comments were received, and thus this notice confirms that effective date.

Correction to Final Rule

After publication, it was discovered that the airport reference point of the University of Pittsburgh Medical Center (UPMC) Passavant-Cranberry Heliport was incorrectly published as lat. 40°41′01″ N., long. 80°05′50″ W. The coordinates are corrected as follows, “lat. 40°41′02″ N., long. 80°05′47″ W.”

Accordingly, pursuant to the authority delegated to me, the coordinates for UPMC Passavant-Cranberry Heliport, Cranberry Township, PA, as published in the Federal Register on February 14, 2008 (73 FR 8597), Federal Docket No. FAA-2007-0278 is corrected as follows:

§ 71.1 [Corrected]

On page 8597, replace

“(Lat. 40°41′01″ N., long. 80°05′50″ W.)

with

“(Lat. 40°41′02″ N., long. 80°05′47″ W.)

Issued in College Park, Georgia, on April 30, 2008.
Mark D. Ward,
Manager, Operations Support Group Eastern Service Center, Air Traffic Organization.

[FR Doc. E8-12781 Filed 6-11-08; 8:45 am]

BILLING CODE 4910-13-M